DEPARTMENT OF THE INTERIOR

Bureau of Land Management

[AK-910-1410-PG]

Notice of Alaska Resource Advisory Council Meeting

AGENCY: Bureau of Land Management, Interior.

SUMMARY: The Alaska Resources Advisory Council will conduct an open meeting Thursday, September 21, 2000, from 10 a.m. until 4:30 p.m. and Friday, September 22, 2000, from 8:30 a.m. until 3 p.m. The meeting will be held in the Anchorage Federal Building at 7th and C Street in room 135.

Primary agenda topics include BLM's proposed twenty-year extension of the Campbell Tract withdrawal and standards for BLM resource management in Alaska. Public comment concerning items on the agenda will be heard from 1 to 2 p.m. Thursday, September 21. Written comments may be submitted at the meeting or mailed to BLM at the address below.

ADDRESSES: Inquiries or comments should be sent to External Affairs, Bureau of Land Management, 222 W. 7th Avenue, #13, Anchorage, AK 99513-7599.

FOR FURTHER INFORMATION CONTACT: Teresa McPherson, (907) 271-5555.

Dated: August 14, 2000.
Francis R. Cherry, Jr.,
State Director.

[FR Doc. 00-21166 Filed 8-18-00; 8:45 am]

BILLING CODE 4310-JA-M